DEPARTMENT OF ENERGY

Federal Energy Regulatory Commission

Combined Notice of Filings

Take notice that the Commission has received the following Natural Gas Pipeline Rate and Refund Report filings:

Filings Instituting Proceedings

Docket Numbers: RP22-499-000.

Applicants: Big Sandy Pipeline, LLC.

Description: Compliance filing: Big Sandy Fuel Filing effective 3/1/2022 to be effective N/A.

Filed Date: 1/27/22.

Accession Number: 20220127-5206.

Comment Date: 5 p.m. ET 2/8/22.

Docket Numbers: RP22-500-000.

Applicants: Gazprom Marketing & Trading USA, Inc., Gazprom Mex (UK) 2 Limited.

Description: Joint Petition for Temporary Waiver of Capacity Release Regulations, et al. of Gazprom Marketing & Trading USA, Inc., et al.

Filed Date: 1/27/22.

Accession Number: 20220127-5229.

Comment Date: 5 p.m. ET 2/8/22.

Docket Numbers: RP22-501-000.

Applicants: ANR Pipeline Company.

Description: § 4(d) Rate Filing: ANR Section 4 Rate Case (1 of 4) to be effective 3/1/2022.

Filed Date: 1/28/22.

Accession Number: 20220128-5036.

Comment Date: 5 p.m. ET 2/9/22.

Docket Numbers: RP22-502-000.

Applicants: Eastern Gas Transmission and Storage, Inc.

Description: § 4(d) Rate Filing: EGTS—January 28, 2022 Negotiated Rate Agreements to be effective 3/1/2022.

Filed Date: 1/28/22.

Accession Number: 20220128-5068.

Comment Date: 5 p.m. ET 2/9/22.

Docket Numbers: RP22-503-000.

Applicants: Ruby Pipeline, L.L.C.

Description: § 4(d) Rate Filing: Fuel LU and EPC Update Filing to be effective 3/1/2022.

Filed Date: 1/28/22.

Accession Number: 20220128-5084.

Comment Date: 5 p.m. ET 2/9/22.

Docket Numbers: RP22-504-000.

Applicants: Sierrita Gas Pipeline LLC.

Description: § 4(d) Rate Filing: Fuel and L&U Update Filing to be effective 3/1/2022.

Filed Date: 1/28/22.

Accession Number: 20220128-5090.

Comment Date: 5 p.m. ET 2/9/22.

Docket Numbers: RP22-505-000.

Applicants: Wyoming Interstate Company, L.L.C.

Description: § 4(d) Rate Filing: Fuel and Lost and Unaccounted for to be effective 3/1/2022.

Filed Date: 1/28/22.

Accession Number: 20220128-5177.

Comment Date: 5 p.m. ET 2/9/22.

Docket Numbers: RP22-506-000.

Applicants: Gulf South Pipeline Company, LLC.

Description: § 4(d) Rate Filing: Cap Rel Neg Rate Agmts (Atlanta Gas 8438 releases eff 2-1-2022) to be effective 2/1/2022.

Filed Date: 1/28/22.

Accession Number: 20220128-5198.

Comment Date: 5 p.m. ET 2/9/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP11-1711-000.

Applicants: Texas Gas Transmission, LLC.

Description: Refund Report: 2021 Cash Out Filing to be effective N/A.

Filed Date: 1/28/22.

Accession Number: 20220128-5095.

Comment Date: 5 p.m. ET 2/9/22.

Docket Numbers: RP20-614-006.

Applicants: Transcontinental Gas Pipe Line Company, LLC.

Description: Refund Report: Cash Out 2nd Supplemental Refund Report Docket Nos. RP20-614 & RP20-618 to be effective N/A.

Filed Date: 1/28/22.

Accession Number: 20220128-5218.

Comment Date: 5 p.m. ET 2/9/22.

Docket Numbers: RP22-501-000.

Applicants: ANR Pipeline Company.

Description: Report Filing: ANR Section 4 Rate Case (2 of 4) to be effective N/A.

Filed Date: 1/28/22.

Accession Number: 20220128-5044.

Comment Date: 5 p.m. ET 2/9/22.

Docket Numbers: RP22-501-000.

Applicants: ANR Pipeline Company.

Description: Report Filing: ANR Section 4 Rate Case (3 of 4) to be effective N/A.

Filed Date: 1/28/22.

Accession Number: 20220128-5051.

Comment Date: 5 p.m. ET 2/9/22.

Docket Numbers: RP22-501-000.

Applicants: ANR Pipeline Company.

Description: Report Filing: ANR Section 4 Rate Case (4 of 4) to be effective N/A.

Filed Date: 1/28/22.

Accession Number: 20220128-5059.

Comment Date: 5 p.m. ET 2/9/22.

Any person desiring to protest in any of the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 28, 2022.
Kimberly D. Bose,
Secretary.

[FR Doc. 2022-02215 Filed 2-2-22; 8:45 am]

BILLING CODE 6717-01-P